DEPARTMENT OF COMMERCE

National Oceanic and Atmospheric Administration

[RTID 0648-XB478]

Fall Meeting of the Advisory Committee to the U.S. Section of the International Commission for the Conservation of Atlantic Tunas

AGENCY: National Marine Fisheries Service (NMFS), National Oceanic and Atmospheric Administration (NOAA), Commerce.

ACTION: Notice of public meeting.

SUMMARY: The Advisory Committee to the U.S. Section of the International Commission for the Conservation of Atlantic Tunas (ICCAT) is announcing the convening of its fall meeting.

DATES: A webinar session that is open to the public will be held on October 18, 2021, from 9:30 a.m. to 12:30 p.m. EDT. Following the open session, the Committee will convene in a closed executive session at 1:30 p.m. that will end by 5 p.m. EDT. The Committee will also convene in a closed session the following day, October 19, 2021, from 9:30 a.m. to 4 p.m. EDT.

ADDRESSES: Written comments should be sent via email to rachel.o'malley@noaa.gov. Participants are strongly encouraged to log on to WebEx (WebEx link: https://noaanmfs-meets.webex.com/noaanmfs-meets/j.php?MTID=m2135d3217cfa2b434cd7988b4aa7494a; WebEx password: “ICCAT”) 15 minutes prior to the meeting.

FOR FURTHER INFORMATION CONTACT: Rachel O'Malley, Office of International Affairs and Seafood Inspection, 301-427-8373 or at rachel.o'malley@noaa.gov.

SUPPLEMENTARY INFORMATION: The Advisory Committee to the U.S. Section to ICCAT will meet in open session to the public on Monday, October 18, 2021 from 9:30 a.m. to 12:30 p.m. EDT to consider management- and research-related information on the status of Atlantic highly migratory species stocks. The open session will include an opportunity for public comment beginning at approximately 12 p.m. Comments may also be submitted in writing for the Advisory Committee's consideration. Interested members of the public can submit comments by email (see ADDRESSES).

NMFS expects members of the public to conduct themselves appropriately at the open session of the Advisory Committee meeting. At the beginning of the public comment session, an explanation of the ground rules will be provided (e.g., speakers will be called on to give their comments in the order in which they registered to speak, each speaker will have an equal amount of time to speak and speakers should not interrupt one another). The session will be structured so that all attending members of the public have the opportunity to comment, if they so choose, regardless of the degree of controversy of the subject(s). Those not respecting the ground rules will be asked to leave the meeting.

After the open session, the Advisory Committee will meet in a closed executive session on Monday, October 18, 2021 (from 1:30 p.m. to 5 p.m. EDT) and Tuesday October 19, 2021 (from 9:30 a.m. to 4 p.m. EDT) to discuss sensitive information relating to upcoming ICCAT negotiations regarding Atlantic highly migratory species conservation and management.

Special Accommodations

The virtual meeting is accessible to people with disabilities. Requests for auxiliary aids should be directed to Rachel O'Malley at (301) 427-8373 or Rachel.o'malley@noaa.gov at least 5 days prior to the meeting date.

Authority: 16 U.S.C. 971 et seq.; 16 U.S.C. 1801 et seq.

Dated: September 28, 2021.
Alexa Cole,
Director, Office of International Affairs and Seafood Inspection, National Marine Fisheries Service.

[FR Doc. 2021-21463 Filed 10-1-21; 8:45 am]

BILLING CODE 3510-22-P